FEDERAL COMMUNICATIONS COMMISSION

Notice of Public Information Collection(s) Being Reviewed by the Federal Communications Commission for Extension Under Delegated Authority

March 5, 2007.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments May 14, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@omb.eop.gov and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-1062.

Title: Schools and Libraries Universal Service Support Mechanism—Notification of Equipment Transfers.

Form No.: N/A.

Type of Review: Extension of a currently approved collection.

Respondents: Business or other for-profit, not-for-profit institutions, and state, local or tribal government.

Number of Respondents: 100 respondents; 100 responses.

Estimated Time Per Response: 1 hour.

Frequency of Response: On occasion reporting requirement, recordkeeping requirement, and third party disclosure requirement.

Obligation to Respond: Required to obtain or retain benefits.

Total Annual Burden: 100 hours.

Annual Cost Burden: N/A.

Privacy Act Impact Assessment: N/A.

Nature and Extent of Confidentiality: The Commission does not request that respondents submit confidential information to the Commission. If the Commission does request respondents to submit information that they believe is confidential, respondents may request confidential treatment of such information under 47 CFR 0.459.

Needs and Uses: This collection will be submitted as an extension after this 60 day comment period to Office of Management and Budget (OMB) in order to obtain the full three year clearance. The Commission has adjusted the number of respondents and burden hours to reflect the most current information available. In the event that a participant of the schools and libraries universal service mechanism (also known as the e-rate program) is permanently or temporarily closed and equipment is transferred, the transferring entity must notify the Administrator of the transfer (third party disclosure requirement). Both the transferring and receiving entities must maintain detailed records (recordkeeping requirement) documenting the transfer and the reason for the transfer for a period of five years.

The purpose of the collection is to promote the goal of preventing waste, fraud, and abuse; we extend that prohibition to all transfers, without regard to whether money or anything of value has been received in return for a period of three years after purchase.

OMB Control No.: 3060-0355.

Title: Rate-of-Return Reports.

Form Nos: FCC Forms 492 and 492-A.

Type of Review: Extension of a currently approved collection.

Respondents: Business or other for-profit.

Number of Respondents: 120 respondents; 120 responses.

Estimated Time Per Response: 8 hours.

Frequency of Response: Annual reporting requirement and recordkeeping requirement.

Obligation to Respond: Mandatory.

Total Annual Burden: 960 hours.

Annual Cost Burden: N/A.

Privacy Act Impact Assessment: N/A.

Nature and Extent of Confidentiality: There is no need for confidentiality. All of the data collected is available for public inspection.

Needs and Uses: This collection will be submitted as an extension after this 60 day comment period to Office of Management and Budget (OMB) in order to obtain the full three year clearance. The Commission has adjusted the number of respondents and burden hours to reflect the most current information available.

FCC Form 492 is filed by each local exchange carrier (LEC) or group of carriers who file individual access tariffs or who are not subject to Sections 61.41 through 61.49 of the Commission's rules. Each LEC, or group of affiliated carriers subject to the previously stated sections, file FCC Form 492A. Both forms are filed annually. The reports contain rate-of-return information and are needed to enable the Commission to fulfill its regulatory responsibilities.

Federal Communications Commission.
Marlene H. Dortch,
Secretary.

[FR Doc. E7-4249 Filed 3-13-07; 8:45 am]

BILLING CODE 6712-01-P